FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than February 19, 2020.

A. Federal Reserve Bank of Chicago (Colette A. Fried, Assistant Vice President) 230 South LaSalle Street, Chicago, Illinois 60690-1414:

1. Forsyth Equity Partners, LP, and its general partner Rakesh Alla, both of Rock Island, Illinois; to acquire voting shares of AmBank Holdings, Inc., and thereby indirectly acquire voting shares of American Bank and Trust Company, N.A, both of Davenport, Iowa.

B. Federal Reserve Bank of Kansas City (Dennis Denney, Assistant Vice President) 1 Memorial Drive, Kansas City, Missouri 64198-0001:

1. Lois D. Fenster, individually, and as co-trustee of The Lois D. Fenster Living Trust; co-trustee of The Stephen R. Fenster Living Trust; general partner of The Fenster Family Partnership, L.P.; and co-owner (along with Pamela Jennison) of Jennison Investments, Inc., which serves as general partner of The Jennison Family Partnership, L.P., all of Healy, Kansas; to retain voting shares of Security Bancshares, Inc., Scott City, Kansas and thereby indirectly retain voting shares of Farmers & Merchants Bank of Colby, Colby, Kansas; Security State Bank, Scott City, Kansas; and The Farmers State Bank of Oakley, Oakley, Kansas. Additionally, The Fenster Family Partnership, L.P.; The Jennison Family Partnership, L.P.; The Lois D. Fenster Living Trust, Stephen Fenster, as co-trustee; The Stephen R. Fenster Living Trust, Stephen Fenster, as co-trustee, all of Healy, Kansas; Danielle E. Demuth, Pratt, Kansas; Kurt A. Fenster, Indianapolis, Indiana; Neil S. Wilson, Healy, Kansas; and Paul A. Wilson, Stratford, Oklahoma to be approved as members of the Fenster/Jennison Family Group, and to retain voting shares of Security Bancshares, Inc., and thereby indirectly retain voting shares of Farmers & Merchants Bank of Colby, Security State Bank, and The Farmers State Bank of Oakley.

Board of Governors of the Federal Reserve System, January 30, 2020.
Ann Misback,
Secretary of the Board.

[FR Doc. 2020-02120 Filed 2-3-20; 8:45 am]

BILLING CODE P